DEPARTMENT OF HOMELAND SECURITY

[Docket No. DHS-2013-0019]

Committee Name: Homeland Security Academic Advisory Council

AGENCY: Department of Homeland Security.

ACTION: Committee Management; Notice of Federal Advisory Committee Meeting.

SUMMARY: The Homeland Security Academic Advisory Council (HSAAC) will meet on March 20, 2013 in Washington, DC. The meeting will be open to the public.

DATES: The HSAAC will meet Wednesday, March 20, 2013, from 10:00 a.m. to 4:00 p.m. Please note that the meeting may close early if the committee has completed its business.

ADDRESSES: The meeting will be held at Ronald Reagan International Trade Center, 1300 Pennsylvania Avenue NW., Floor B, Room B1.5-10, Washington, DC 20004. All visitors to the Ronald Reagan International Trade Center must bring a Government-issued photo ID. Please use the main entrance on 14th Street NW.

For information on facilities or services for individuals with disabilities or to request special assistance at the meeting, send an email to AcademicEngagement@hq.dhs.gov or contact Lindsay Burton at 202-447-4686 as soon as possible.

To facilitate public participation, we are inviting public comment on the issues to be considered by the committee prior to the adoption of recommendations as listed in the SUPPLEMENTARY INFORMATION section below. Comments must be submitted in writing no later than Tuesday, March 12, 2013; must include DHS-2013-0019 as the identification number; and may be submitted using one of the following methods:

• Federal eRulemaking Portal: http://www.regulations.gov. Follow the instructions for submitting comments.

• Email: AcademicEngagement@hq.dhs.gov. Include the docket number in the subject line of the message.

• Fax: 202-447-3713.

• Mail: Academic Engagement; MGMT/Office of Academic Engagement/Mailstop 0440; Department of Homeland Security; 245 Murray Lane SW.; Washington, DC 20528-0440.

Instructions: All submissions received must include the words “Department of Homeland Security” and the docket number for this action. Comments received will be posted without alteration at http://www.regulations.gov, including any personal information provided.

Docket: For access to the docket, to read background documents or comments received by the Homeland Security Academic Advisory Council, go to http://www.regulations.gov.

One thirty-minute public comment period will be held during the meeting on March 20, 2013, occurring between approximately 2:00 p.m. and 4:00 p.m. Speakers will be requested to limit their comments to three minutes. Please note that the public comment period may end before the time indicated, following the last call for comments. Contact the Office of Academic Engagement as indicated below to register as a speaker.

FOR FURTHER INFORMATION CONTACT: Lindsay Burton, Office of Academic Engagement/Mailstop 0440; Department of Homeland Security; 245 Murray Lane SW.; Washington, DC 20528-0440, email: AcademicEngagement@hq.dhs.gov, tel: 202-447-4686 and fax: 202-447-3713.

SUPPLEMENTARY INFORMATION: Notice of this meeting is given under the Federal Advisory Committee Act, 5 U.S.C. App. (Pub. L. 92-463). The HSAAC provides advice and recommendations to the Secretary and senior leadership on matters relating to student and recent graduate recruitment; international students; academic research; campus and community resiliency, security and preparedness; and faculty exchanges.

Agenda: The five HSAAC subcommittees (Student and Recent Graduate Recruitment, Homeland Security Academic Programs, Academic Research and Faculty Exchange, International Students, and Campus Resilience) will give progress reports and may present draft recommendations for action in response to initial taskings issued by Secretary Napolitano at the March 20, 2012 full committee meeting, including: How to attract student interns, student veterans, and recent graduates to jobs at DHS; how to use social media and other means of communication to most effectively reach this audience; how to ensure that students and recent graduates of Historically Black Colleges and Universities, Hispanic Serving Institutions, Tribal Colleges and Universities, and other Minority Serving Institutions know of and take advantage of DHS internship and job opportunities; how to define the core elements of a homeland security degree at the Associates, Bachelors and Masters levels; how to apply the Transportation Security Administration (TSA) Associates Program model to other segments of the DHS workforce who wish to pursue a community college pathway; how to form relationships with 4-year schools so that DHS employees' credits transfer towards a higher level degree; how to enhance existing relationships between the Federal Emergency Management Agency's (FEMA) Emergency Management Institute and the higher education community to support Presidential Policy Directive 8 (PPD-8), expand national capability, and support a whole community approach; how to expand DHS cooperation with the Department of Defense academies and schools to provide current DHS employees with educational opportunities; how academic research can address DHS' biggest challenges; how DHS operational Components can form lasting relationships with universities to incorporate scientific findings and Research and Development into DHS operations and thought processes; how universities can effectively communicate to DHS emerging scientific findings and technologies that will make DHS operations more effective and efficient; how to create a robust staff/faculty exchange program between academe and DHS; how DHS can improve its international student processes and outreach efforts; how DHS can better communicate its regulatory, policies and procedures to the academic community; how DHS can accommodate and support emerging trends in international education; how colleges and universities use specific capabilities, tools, and processes to enhance campus and community resilience as well as the cyber and physical infrastructure; how DHS grant programs may be adjusted to support resiliency-related planning and improvements; how campuses can better integrate with community planning and response entities; how to implement the whole community approach and preparedness culture within student and neighboring communities; how to strengthen ties between the DHS Federal Law Enforcement Training Center and campus law enforcement professionals; and how DHS can better coordinate with individual campus IT departments on the risks towards and attacks on computer systems and networks. The meeting materials will be posted to the HSAAC Web site at: http://www.dhs.gov/homeland-security-academic-advisory-council-hsaac no later than March 15, 2013.

Responsible DHS Official: Lauren Kielsmeier, AcademicEngagement@hq.dhs.gov, 202-447-4686.

Dated: February 26, 2013.
Lauren Kielsmeier,
Executive Director for Academic Engagement.

[FR Doc. 2013-04861 Filed 3-1-13; 8:45 am]

BILLING CODE 9110-9B-P